DEPARTMENT OF JUSTICE

[OMB Number 1123-0011]

Agency Information Collection Activities; Proposed eCollection eComments Requested; Annual Certification Report and Equitable Sharing Agreement

AGENCY: Criminal Division (MLARS), Department of Justice.

ACTION: 30-Day notice.

SUMMARY: The Department of Justice (DOJ), Money Laundering and Asset Recovery Section, Criminal Division, will be submitting the following information collection request to the Office of Management and Budget (OMB) for review and approval in accordance with the Paperwork Reduction Act of 1995.

DATES: Comments are encouraged and will be accepted for 30 days until October 11, 2024.

FOR FURTHER INFORMATION CONTACT: If you have comments especially on the estimated public burden or associated response time, suggestions, or need a copy of the proposed information collection instrument with instructions or additional information, please contact Teresa Franklin, Criminal Division (MLARS), 1400 New York Avenue NW, Washington, DC 20005, teresa.franklin2@usdoj.gov.

SUPPLEMENTARY INFORMATION: The proposed information collection was previously published in the Federal Register, [89 FR 48192], on [June 5, 2024], allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1123-0011. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a currently approved collection.

2. Title of the Form/Collection: Annual Certification Report and Equitable Sharing Agreement.

3. Agency form number, if any, and the applicable component of the Department of Justice sponsoring the collection: There is not an agency form number. The collection instrument is the Equitable Sharing Agreement and Certification. The applicable component within the Department of Justice is the Money Laundering and Asset Recovery Section (“MLARS”), in the Criminal Division

4. Affected public who will be asked or required to respond, as well as a brief abstract: Affected Public: State, Local and Tribal Governments.

Abstract: This collection of information is authorized by 21 U.S.C. 881(e)(3). MLARS ensures such cooperation by requiring that all such “equitably shared” funds be used only for law enforcement purposes and not be distributed to other governmental agencies by the recipient law enforcement agencies. By requiring that law enforcement agencies that participate in the Equitable Sharing Program (Program) file an Equitable Sharing Agreement and Certification (ESAC), MLARS can readily ensure compliance with its statutory obligations.

The ESAC requires information regarding the receipt and expenditure of Program funds from the participating agency. Accordingly, it seeks information that is exclusively in the hands of the participating agency. This collection request is classified as a revision due to a new version of the Equitable Sharing Guide, that will be published by the end of the calendar year, in addition to format changes and deleting and relabeling some fields.

5. Obligation to Respond: Required to obtain or retain a benefit.

6. Total Estimated Number of Respondents: 6,000.

7. Total Estimated Number of Responses: 6,000.

8. Time per Response: .5 hours.

9. Total Estimated Annual Time Burden: 3,000 hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: September 5, 2024.
Darwin Arceo,
Department Clearance Officer for PRA, U.S. Department of Justice.

[FR Doc. 2024-20428 Filed 9-10-24; 8:45 am]

BILLING CODE 4410-14-P